DEPARTMENT OF TRANSPORTATION

Federal Highway Administration

Environmental Impact Statements: National Summary of Rescinded Notices of Intent

AGENCY: Federal Highway Administration (FHWA), DOT.

ACTION: Notice.

SUMMARY: The FHWA is issuing this notice to advise the public that 8 States have rescinded Notices of Intent (NOIs) to prepare 14 Environmental Impact Statements (EISs) for proposed highway projects. The FHWA Division Offices, in consultation with the State departments of transportation (State DOTs), determined that six projects were no longer viable and have formally cancelled the projects. No further Federal resources will be expended on these projects; the environmental review process has been terminated. Four projects have been reduced in scope or found not to have significant impacts and now meet the criteria for an Environmental Assessment (EA) or a Categorical Exclusion (CE). Two projects will be constructed using solely State funds, so EISs will not be required. One project will be divided into two future projects and NOIs will be issued as needed. Finally, one project is being significantly rescoped and required a new NOI, which has already been issued.

FOR FURTHER INFORMATION CONTACT: Bill Ostrum, Office of Project Development and Environmental Review, (202) 366-4651; Janet Myers, Office of the Chief Counsel, (202) 366-2019; Federal Highway Administration, 1200 New Jersey Avenue SE., Washington, DC 20590.

SUPPLEMENTARY INFORMATION:

Electronic Access

An electronic copy of this document may be downloaded by accessing the Federal Register's home page at: http://www.archives.gov and the Government Printing Office's Web page at http://www.gpoaccess.gov/nara.

Background

The FHWA, as lead Federal agency under the National Environmental Policy Act (NEPA) and in furtherance of its oversight and stewardship responsibilities under the Federal-aid highway program, periodically requests that its Division Offices review, with the State DOTs, the status of all EISs and place those projects that are not actively progressing in a timely manner in an inactive project status. The FHWA maintains lists of active and inactive EIS projects on its Web site at http://www.environment.fhwa.dot.gov/. The FHWA has determined that inactive projects that are no longer a priority or that lack financial resources should be rescinded with a Federal Register notice notifying the public that project activity has been terminated. This notice covers the time period since the last summary was issued on May 23, 2011, and published in the Federal Register at 76 FR 31676 (June 1, 2011). As always, FHWA encourages State DOTs to work with their FHWA Division Office to determine when it is most prudent to initiate an EIS in order to best balance available resources as well as the expectations of the public.

The FHWA is issuing this notice to advise the public that 8 States (California, Idaho, Mississippi, Nebraska, New York, North Carolina, Ohio, and Texas) have recently rescinded previously issued NOIs for 14 EISs for proposed highway projects. A listing of these projects, general location, original NOI date of publication in the Federal Register, and the date that the NOI was formally rescinded by notice published in the Federal Register, is provided below.

The FHWA Division Offices, in consultation with the State DOTs, determined that six of these projects were no longer viable projects and have formally cancelled those projects. The projects are: State Route 101 in Mendocino County, California; State Route 603/43 in Hancock County, Mississippi; the Elizabeth Brady Road Extension (U-3808) in Orange County, North Carolina; the Brooklyn-Queens Expressway (Project X730.56) in Kings County, New York; Gowanus Expressway—Battery Tunnel (Project X729.94) in Kings County, New York; and US-62 in Mahoning and Trumbull Counties, Ohio.

Four projects are currently undergoing re-scoping and are expected to require either an EA or CE when re-scoping is complete. These projects include: The Bayview Transportation Improvement Project in California; the Boise River Bridge and Travel Corridor in Ada County, Idaho; SH-55 in Valley County, Idaho; and Highway 35 between Norfolk and South Sioux City, Nebraska.

In addition, two projects will now be constructed using State funding for the delivery of the project so EISs are no longer necessary: US Highway 30, Schuyler to Fremont in Colfax and Dodge Counties, Nebraska; and the Loop 375/César Chavez Highway, in El Paso County, Texas.

The Peace Bridge Expansion Project in Erie County, New York, will be divided into separate projects, and new NOIs will be issued as needed. Finally, one project, the Tappan Zee Bridge/I-287 project in Rockland and Westchester Counties, New York, was significantly changed in scope. A new NOI reflecting this change was issued on 10/12/2011.

State | Project name | Original NOI date | Rescinded NOI date
CA | State Route 101 in Mendocino County | 9/5/2002 | 8/09/2011
CA | Bayview Transportation Improvement Project | 6/2/2004 | 9/1/2011
ID | Boise River Bridge and Travel Corridor | 1/13/2004 | 8/29/2011
ID | SH-55 in Valley County | 1/24/2000 | 3/14/2012
MS | State Route 603/43 | 10/26/2009 | 8/26/2011
NC | Elizabeth Brady Road Extension (U-3808) | 6/14/2005 | 1/23/2012
NE | Highway 35 between Norfolk and South Sioux City | 3/4/2002 | 7/14/2011
NE | Highway 30, Schuyler to Fremont in Colfax and Dodge Counties | 8/29/2005 | 3/7/2012
NY | Tappan Zee Bridge/I-287 | 12/23/2002 | 10/12/2011
NY | Brooklyn-Queens Expressway (BQE), Interstate 278 (I-278) in Kings County (Project X730.56) | 4/20/2009 | 11/29/2011
NY | Gowanus Expressway—Battery Tunnel in Kings County | 11/1/1996 | 11/29/2011
NY | Peace Bridge Expansion Project, City of Buffalo, Erie County | 10/9/2001 | 1/10/2012
OH | US-62 in Mahoning and Trumbull Counties | 11/5/2004 | 4/26/2012
TX | Loop 375 César Chávez Highway (Border Highway West Extension), El Paso County | 9/1/2007 | 10/3/2011

(Catalog of Federal Domestic Assistance Program Number 20.205, Highway Planning and Construction. The regulations implementing Executive Order 12372 regarding intergovernmental consultation on Federal programs and activities apply to this program.)

Issued on: June 29, 2012.
Victor M. Mendez,
Administrator.

[FR Doc. 2012-16644 Filed 7-6-12; 8:45 am]

BILLING CODE 4910-22-P